DEPARTMENT OF THE INTERIOR

Minerals Management Service

Agency Information Collection Activities: Submitted for Office of Management and Budget (OMB) Review; Comment Request

AGENCY: Minerals Management Service (MMS), Interior.

ACTION: Notice of extension of an information collection (1010-0128).

SUMMARY: To comply with the Paperwork Reduction Act of 1995 (PRA), we are notifying the public that we have submitted to OMB an information collection request (ICR) to renew approval of the paperwork requirements in the regulations under 30 CFR 250, Subpart O, “Well Control and Production Safety Training.” This notice also provides the public a second opportunity to comment on the paperwork burden of these regulatory requirements.

DATES: Submit written comments by August 27, 2003.

ADDRESSES: You may submit comments either by fax (202) 395-5806 or e-mail (Ruth_Solomon@omb.eop.gov) directly to the Office of Information and Regulatory Affairs, OMB, Attention: Desk Officer for the Department of the Interior (1010-0128). Mail or hand carry a copy of your comments to the Department of the Interior; Minerals Management Service; Attention: Rules Processing Team; Mail Stop 4024; 381 Elden Street; Herndon, Virginia 20170-4817.

FOR FURTHER INFORMATION CONTACT: Arlene Bajusz, Rules Processing Team, telephone (703) 787-1600. You may also contact Arlene Bajusz to obtain a copy, at no cost, of the regulations that require the subject collection of information.

SUPPLEMENTARY INFORMATION: Title: 30 CFR 250, Subpart O, Well Control and Production Safety Training.

OMB Control Number: 1010-0128.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) of the OCS Lands Act (43 U.S.C. 1332) requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to the Minerals Management Service (MMS). To carry out these responsibilities, MMS issues regulations governing oil and gas or sulphur operations in the OCS.

Regulations at 30 CFR 250, subpart O, implement these safe operation requirements. The MMS uses the information collected under subpart O to ensure that workers in the OCS are properly trained with the necessary skills to perform their jobs in a safe and pollution-free manner. In some instances, MMS will conduct oral interviews of offshore employees to evaluate the effectiveness of a company's training program. The information collected is necessary to verify personnel training compliance with the requirements.

Frequency: Primarily on occasion.

Estimated Number and Description of Respondents: Approximately 130 Federal OCS lessees.

Estimated Reporting and Recordkeeping “Hour” Burden: The estimated annual “hour” burden for this information collection is a total of 2,067 hours. The following chart details the individual components and estimated hour burdens. In calculating the burdens, we assumed that respondents perform certain requirements in the normal course of their activities. We consider these to be usual and customary, and took that into account in estimating the burden.

Citation 30 CFR 250 subpart O | Reporting & recordkeeping requirement | Hour burden | Average No. annual responses | Annual burden hours
1502 | Notify MMS of early implementation of revised final regulations (final program is implemented 10/15/02; requirement is no longer necessary) | 0 | 0 Notifications | 0
1503(b), (c) | Develop training plans. Note: Existing lessees/respondents already have training plans developed. This number reflects development of plans for any new lessees | 60 | 2 New Plans | 120
1503(c) | Maintain copies of training plan and employee training documentation for 5 years | 15 min. × 130 plans = 1,950 ÷ 60 | 130 Recordkeepers | 33 (rounded)
|  | 5 min. × 20,000 employee records = 100,000 ÷ 60 |  | 1,667 (rounded)
1503(c) | Upon request, provide MMS copies of employee training documentation or provide copy of training plan | 5 | 27 Submissions | 135
1507(b) | Employee oral interview conducted by MMS | 10 min. × 562 interviews = 5,620 ÷ 60 | 562 Interviews | 94 (rounded)
1507(c), (d); 1508; 1509 | Written testind conducted by MMS or authorized representative | Exempt under 5 CFR 1320.3(h)(7). |  | 0
1510(b) | Revise training plan and submit to MMS. | 4 | 3 Respondents | 12
250.1500-1510 | General departure or alternative compliance requests not specifically covered elsewhere in subpart O | 2 | 3 Requests | 6
Total Hour Burden |  |  | 727 Responses | 2,067

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 30, 2003, we published a Federal Register notice (68 FR 4792) announcing that we would submit this ICR to OMB for approval. The notice provided the required 60-day comment period. In addition, Section 250.199 provides the OMB control number for the information collection requirements imposed by 30 CFR 250, subpart O, regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by August 27, 2003.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: April 22, 2003.
E.P. Danenberger,
Chief, Engineering and Operations Division.

[FR Doc. 03-19073 Filed 7-25-03; 8:45 am]

BILLING CODE 4310-MR-P